SURFACE TRANSPORTATION BOARD

[Docket No. AB 1245X]

Michigan Southern Railroad Company, d/b/a Napoleon, Defiance & Western Railway—Discontinuance of Service Exemption—in Henry County, Ohio

On August 11, 2016, Michigan Southern Railroad Company, d/b/a Napoleon, Defiance & Western Railway (NDW) filed with the Surface Transportation Board (Board) a petition under 49 U.S.C. 10502 for exemption from the provisions of 49 U.S.C. 10903 to discontinue rail service over approximately 5.43 miles of rail line between milepost TN 28.0, near Liberty Center, Ohio, and milepost TN 33.43, near Napoleon, Ohio, in Henry County, Ohio. The line traverses U.S. Postal Service Zip Codes 43545 and 43532, and includes the station of Liberty Center, which NDW states will be discontinued.

NDW states that the line does not contain any federally granted rights-of-way. Any documentation in NDW's possession will be made available promptly to those requesting it.

The interest of railroad employees will be protected by the conditions set forth in Oregon Short Line Railroad-Abandonment Portion Goshen Branch Between Firth & Ammon, in Bingham & Bonneville Counties, Idaho, 360 I.C.C. 91 (1979).

By issuance of this notice, the Board is instituting an exemption proceeding pursuant to 49 U.S.C. 10502(b). A final decision will be issued by November 29, 2016.

Because this is a discontinuance proceeding and not an abandonment proceeding, trail use/rail banking and public use conditions are not appropriate. Because there will be environmental review during abandonment, this discontinuance does not require an environmental review.

Any offer of financial assistance (OFA) under 49 CFR 1152.27(b)(2) to subsidize continued rail service will be due no later than December 9, 2016, or 10 days after service of a decision granting the petition for exemption, whichever occurs sooner. Each offer must be accompanied by a $1,600 filing fee. See 49 CFR 1002.2(f)(25).

All filings in response to this notice must refer to Docket No. AB 1245X and must be sent to: (1) Surface Transportation Board, 395 E Street, SW., Washington, DC 20423-0001; and (2) William A. Mullins, Baker & Miller PLLC, 2401 Pennsylvania Ave., NW., Suite 300, Washington, DC 20037. Replies to the petition are due on or before September 20, 2016.

Persons seeking further information concerning discontinuance procedures may contact the Board's Office of Public Assistance, Governmental Affairs, and Compliance at (202) 245-0238 or refer to the full abandonment and discontinuance regulations at 49 CFR pt. 1152. [Assistance for the hearing impaired is available through the Federal Information Relay Service (FIRS) at 1-800-877-8339.]

Board decisions and notices are available on our Web site at “WWW.STB.DOT.GOV.”

Decided: August 24, 2016.
By the Board, Rachel D. Campbell, Director, Office of Proceedings.
Rena Laws-Byrum,
Clearance Clerk.

[FR Doc. 2016-20744 Filed 8-30-16; 8:45 am]

BILLING CODE 4915-01-P